DEPARTMENT OF ENERGY

Federal Energy Regulatory Commission

Combined Notice of Filings #2

Take notice that the Commission received the following electric corporate filings:

Docket Numbers: EC12-73-000.

Applicants: Tucson Electric Power Company.

Description: Application for Approval Pursuant to Section 203 of the Federal Power Act and Request for Expedited Treatment by April 16, 2012 of Tucson Electric Power Company.

Filed Date: 2/16/12.

Accession Number: 20120216-5114.

Comments Due: 5 p.m. ET 3/8/12.

Take notice that the Commission received the following exempt wholesale generator filings:

Docket Numbers: EG12-32-000.

Applicants: USG Nevada LLC.

Description: USG Nevada LLC Notice of Exempt Wholesale Generator.

Filed Date: 2/16/12.

Accession Number: 20120216-5115.

Comments Due: 5 p.m. ET 3/8/12.

Take notice that the Commission received the following electric rate filings:

Docket Numbers: ER10-2074-001; ER10-2097-003.

Applicants: Kansas City Power & Light Company, KCP&L Greater Missouri Operations Company.

Description: Supplemental Information of Kansas City Power & Light Company and KCP&L Greater Missouri Operations Company.

Filed Date: 10/28/11.

Accession Number: 20111028-5169.

Comments Due: 5 p.m. ET 3/8/12.

Docket Numbers: ER12-1101-000.

Applicants: ISO New England Inc., New England Power Pool Participants Committee.

Description: ISO New England Inc. submits tariff filing per 35.13(a)(2)(iii: Revisions to ISO NE FAP Related to Expiration of Load Response Program to be effective 6/1/2012.

Filed Date: 2/16/12.

Accession Number: 20120216-5026.

Comments Due: 5 p.m. ET 3/8/12.

Docket Numbers: ER12-1103-000.

Applicants: Tucson Electric Power Company.

Description: Tucson Electric Power Company submits tariff filing per 35.13(a)(2)(iii: Second Amended and Restated Participation Agreement and 230kV Attachment Agreement to be effective 12/31/9998.

Filed Date: 2/16/12.

Accession Number: 20120216-5061.

Comments Due: 5 p.m. ET 3/8/12.

Docket Numbers: ER12-1104-000.

Applicants: Robbins Energy, LLC.

Description: Robbins Energy, LLC submits tariff filing per 35.13(a)(2)(iii: Amended Tariff Filing to be effective 2/3/2012.

Filed Date: 2/16/12.

Accession Number: 20120216-5064.

Comments Due: 5 p.m. ET 3/8/12.

Docket Numbers: ER12-1105-000.

Applicants: PJM Interconnection, L.L.C.

Description: PJM Interconnection, L.L.C. submits tariff filing per 35.13(a)(2)(iii: PJM Original Service Agreement No. 3203; Queue No. W3-079 to be effective 1/20/2012.

Filed Date: 2/16/12.

Accession Number: 20120216-5085.

Comments Due: 5 p.m. ET 3/8/12.

Docket Numbers: ER12-1106-000.

Applicants: PJM Interconnection, L.L.C.

Description: PJM Interconnection, L.L.C. submits tariff filing per 35.13(a)(2)(iii: PJM Original Service Agreement No. 3201; Queue No. W3-076 to be effective 1/20/2012.

Filed Date: 2/16/12.

Accession Number: 20120216-5094.

Comments Due: 5 p.m. ET 3/8/12.

Docket Numbers: ER12-1107-000.

Applicants: PJM Interconnection, L.L.C.

Description: PJM Interconnection, L.L.C. submits tariff filing per 35.13(a)(2)(iii: PJM Original Service Agreement No. 3202; Queue No. W3-077 to be effective 1/20/2012.

Filed Date: 2/16/12.

Accession Number: 20120216-5100.

Comments Due: 5 p.m. ET 3/8/12.

Docket Numbers: ER12-1108-000.

Applicants: PJM Interconnection, L.L.C.

Description: PJM Interconnection, L.L.C. submits tariff filing per 35.15: Notice of Cancellation of Service Agreement 2641 in Docket No. ER10-3313-000 to be effective 1/16/2012.

Filed Date: 2/16/12.

Accession Number: 20120216-5103.

Comments Due: 5 p.m. ET 3/8/12.

Take notice that the Commission received the following electric securities filings:

Docket Numbers: ES12-1-001.

Applicants: Northeast Utilities Service Company, The Connecticut Light and Power Company.

Description: The Connecticut Light and Power Company Request for Modification of Order Pursuant to Section 204 of the Federal Power Act Authorizing the Issuance and Sale of Short-term Debt Securities.

Filed Date: 2/15/12.

Accession Number: 20120215-5180.

Comments Due: 5 p.m. ET 3/7/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2012.
Nathaniel J. Davis, Sr.,
Deputy Secretary.

[FR Doc. 2012-4301 Filed 2-23-12; 8:45 am]

BILLING CODE 6717-01-P